DEPARTMENT OF TRANSPORTATION

Office of the Secretary

Aviation Proceedings, Agreements Filed the Week Ending September 5, 2009

The following Agreements were filed with the Department of Transportation under the Sections 412 and 414 of the Federal Aviation Act, as amended (49 U.S.C. 1383 and 1384) and procedures governing proceedings to enforce these provisions. Answers may be filed within 21 days after the filing of the application.

Docket Number: DOT-OST-2009-0213.

Date Filed: September 3, 2009.

Parties: Members of the International Air Transport Association.

Subject: PTC3 South Asian Subcontinent—South East Asia. PTC3 Within South East Asia except between Malaysia and Guam PTC3 South East Asia—Japan, Korea except between Korea (Rep. of) and Guam, Northern Mariana Islands Special Passenger Amending Resolution from Viet Nam to South Asian Subcontinent, South East Asia, Japan, Korea (Memo 1316).

Intended effective date: 15 September 2009.

Renee V. Wright,
Program Manager, Docket Operations Federal Register Liaison.

[FR Doc. E9-22418 Filed 9-16-09; 8:45 am]

BILLING CODE 4910-9X-P